DEPARTMENT OF TRANSPORTATION

Federal Aviation Administration

Availability of Record of Decision for the Environmental Impact Statement (EIS) for the Proposed LaGuardia Access Improvement Project at LaGuardia Airport (LGA), New York City, Queens County, New York; Correction

AGENCY: Federal Aviation Administration (FAA), Department of Transportation (DOT).

ACTION: Notice of Availability for Record of Decision; correction.

SUMMARY: This notice corrects the Notice of Availability (NOA) for the Record of Decision for the Final Environmental Impact Statement (EIS) for the proposed LaGuardia Airport (LGA) Access Improvement Project. The original NOA was published in the Federal Register on July 23, 2021 and included an incorrect statement.

FOR FURTHER INFORMATION CONTACT: Mr. Andrew Brooks, Environmental Program Manager, Eastern Regional Office, AEA-610, Federal Aviation Administration, 1 Aviation Plaza, Jamaica, NY 11434. Telephone: 718-553-2511.

SUPPLEMENTARY INFORMATION:

Correction

In the NOA FR Doc. 2021-15704, on page 39098 in the issue of July 23, 2021, make the following correction in the Supplementary Information section. On page 39098, the first paragraph following the bulleted list describing the determination in the Record of Decision is updated as follows.

The following text is removed from the NOA:

This ROD also presents the decision of the NPS, as cooperating agency in the Final EIS, to approve a partial conversion of 0.5 acres of parklands subject to the Land and Water Conservation Fund (LWCF) Act in Flushing Meadows-Corona Park, as well as to approve a Temporary Non-Conforming Use (TNCU) of 1.2 acres of parkland subject to the LWCF Act.

It is replaced with the following text:

The Port Authority will be responsible for completion of all necessary approvals related to the conversion of property under the Land and Water Conservation Fund (LWCF) Act, including acquisition and development of the replacement property once the Port Authority identifies suitable replacement property that meets LWCF conversion requirements. The Port Authority will develop replacement property in coordination with New York City Department of Parks and Recreation and New York State Department of Parks, Recreation and Historic Preservation, subject to the approval of the National Park Service.

Issued in Jamaica, New York, July 29, 2021.
Patricia Henn,
Manager, Planning and Programming Branch, Airports Division, Eastern Region.

[FR Doc. 2021-16482 Filed 8-2-21; 8:45 am]

BILLING CODE 4910-13-P